DEPARTMENT OF AGRICULTURE

Agricultural Research Service

Notice of the Advisory Committee on Biotechnology and 21st Century Agriculture Meeting

AGENCY: Office of the Under Secretary, Research, Education, and Economics Agricultural Research Service, USDA.

ACTION: Notice of meeting.

SUMMARY: In accordance with the Federal Advisory Committee Act, 5 U.S.C. App. 2, the United States Department of Agriculture announces a meeting of the Advisory Committee on Biotechnology and 21st Century Agriculture (AC21).

DATES: The meeting dates are March 5-6, 2012, 8:30 a.m. to 5 p.m. each day.

ADDRESSES: U.S. Access Board Conference Room, 1331 F Street NW., Suite 800, Washington, DC 20004-1111.

FOR FURTHER INFORMATION CONTACT: Michael Schechtman, Designated Federal Official, Office of the Deputy Secretary, USDA, 202B Jamie L. Whitten Federal Building, 12th and Independence Avenue SW., Washington, DC 20250; Telephone (202) 720-3817; Fax (202) 690-4265; Email AC21@ars.usda.gov.

SUPPLEMENTARY INFORMATION: The next meeting of the AC21 has been scheduled for March 5-6, 2012. The AC21 consists of members representing the biotechnology industry, the organic food industry, farming communities, the seed industry, food manufacturers, state government, consumer and community development groups, as well as academic researchers and a medical doctor. In addition, representatives from the Department of Commerce, the Department of Health and Human Services, the Department of State, the Environmental Protection Agency, the Council on Environmental Quality, and the Office of the United States Trade Representative have been invited to serve as “ex officio” members. The Committee meeting will be held from 8:30 a.m. to 5 p.m. on each day. The topics to be discussed will include: progress of the four AC21 working groups on analyses relevant to the overall AC21 charge; how the commercial sector is addressing unintended presence now and managing risk; continuing overall discussions on the Committee charge and exploring current areas of agreement among members; and planning subsequent work.

Background information regarding the work and membership of the AC21 is available on the USDA Web site at http://www.usda.gov/wps/portal/usda/usdahome?contentid=AC21Main.xml&contentidonly=true. Members of the public who wish to make oral statements should also inform Dr. Schechtman in writing or via Email at the indicated addresses at least three business days before the meeting. On March 5, 2012, if time permits, reasonable provision will be made for oral presentations of no more than five minutes each in duration.

The meeting will be open to the public, but space is limited. If you would like to attend the meetings, you must register by contacting Ms. Dianne Fowler at (202) 720-4074 or by Email at Dianne.fowler@ars.usda.gov at least 5 days prior to the meeting. Please provide your name, title, business affiliation, address, telephone, and fax number when you register. If you are a person with a disability and request reasonable accommodations to participate in this meeting, please note the request in your registration. All reasonable accommodation requests are managed on a case by case basis.

Ann Bartuska,
Deputy Under Secretary, Research, Education and Economics.

[FR Doc. 2012-4349 Filed 2-23-12; 8:45 am]

BILLING CODE 3410-03-P